ENVIRONMENTAL PROTECTION AGENCY

40 CFR Part 52

[CA 226-0186b; FRL-6606-4]

Approval and Promulgation of State Implementation Plans; California State Implementation Plan Revision, Antelope Valley Air Pollution Control District

AGENCY: Environmental Protection Agency (EPA).

ACTION: Proposed rule.

SUMMARY: EPA is approving revisions to the California State Implementation Plan (SIP) for the Antelope Valley Air Pollution Control District (AVAPCD). There are six revisions: three rule recissions with accompanying negative declarations for source categories that emit volatile organic compounds (VOC); two negative declarations for source categories that emit oxides of nitrogen (NOX), and one rule recission for a source category that emits oxides of sulfur (SOX). The intended effect of this action is to bring the AVAPCD SIP up to date in accordance with the requirements of the Clean Air Act, as amended in 1990 (CAA or the Act). EPA is finalizing the approval of these recissions from the California SIP under provisions of the CAA regarding EPA action on SIP submittals, SIPs for national primary and secondary ambient air quality standards and plan requirements for nonattainment areas. EPA is approving these revisions in accordance with the requirements of the Clean Air Act, as amended in 1990 (CAA or the Act). In the Final Rules section of this Federal Register, the EPA is approving the state's SIP submittal as a direct final rule without prior proposal because the Agency views this as a noncontroversial revision and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by June 16, 2000.

ADDRESSES: Comments should be addressed to: Andrew Steckel, Chief, Rulemaking Office (AIR-4), Air Division, U.S. Environmental Protection Agency, Region IX, 75 Hawthorne Street, San Francisco, CA 94105-3901.

Copies of the rule revisions and EPA's technical support document of each rule are available for public inspection at EPA's Region IX office during normal business hours. Copies of the submitted rule revisions are also available for inspection at the following locations:

California Air Resources Board, Stationary Source Division, Rule Evaluation Section, 2020 “L” Street, Sacramento, CA 95812.

Antelope Valley Air Pollution Control District, 43301 Division Street, Suite 206, Lancaster, CA 93539-4409

FOR FURTHER INFORMATION CONTACT: Julie A. Rose, Rulemaking Office, AIR-4, Air Division, U.S. Environmental Protection Agency, Region 9, 75 Hawthorne Street, San Francisco, CA 94105-3901, Telephone: (415) 744-1184).

SUPPLEMENTARY INFORMATION: The rules being approved for recission and the negative declarations being approved for the Antelope Valley Air Pollution Control District (AVAPCD) portion of the California SIP are listed in the following Table:

Submitted Recissions and Negative Declarations
Rule No. and title | Adoption date | Submittal date | Type of revision
1105, Fluid Catalytic Cracking Units—Oxides of Sulfur | 04-21-98 | 05-13-99 | Recission.
1109, Emissions of Oxides of Nitrogen from Boilers and Process Heaters in Petroleum Refineries | 04-21-98 | 05-13-99 | Negative Declaration.
1112, Emissions of Oxides of Nitrogen from Cement Kilns | 03-16-99 | 07-23-99 | Negative Declaration.
1115, Motor Vehicle Assembly Line Coating Operations | 11-18-97 | 01-12-99 | Recission/Negative Declaration.
1117, Emissions of Oxides of Nitrogen from Glass Melting Furnaces | 03-16-99 | 07-23-99 | Recission/Negative Declaration.
1123, Refinery Process Turnarounds | 11-08-97 | 02-16-99 | Recission/Negative Declaration.

The rule recissions and negative declarations listed above were submitted to EPA by the California Air Resources Board (CARB) on the dates indicated. For further information, please see the information provided in the direct final action that is located in the rules section of this Federal Register.

Authority: 42 U.S.C. 7401 et seq.

Dated: May 3, 2000.
Felicia Marcus,
Regional Administrator, Region IX.

[FR Doc. 00-11997 Filed 5-16-00; 8:45 am]

BILLING CODE 6560-50-P